FEDERAL COMMUNICATIONS COMMISSION

47 CFR Chapter 1

[FCC 08-243; WT Docket No. 00-230]

Promoting Efficient Use of Spectrum Through Elimination of Barriers to the Development of Secondary Markets

AGENCY: Federal Communications Commission.

ACTION: Final rule.

SUMMARY: In the Second Order on Reconsideration, the Commission denies a petition for reconsideration or, in the alternative, clarification filed by T-Mobile USA, Inc. with respect to the Commission's Secondary Markets Second Report and Order (Second R&O) in this proceeding.

FOR FURTHER INFORMATION CONTACT: Wireless Telecommunications Bureau, Spectrum and Competition Policy Division: Paul D'Ari at (202) 418-1550.

SUPPLEMENTARY INFORMATION: This is a summary of the Commission's Second Order on Reconsideration, WT Docket No. 00-230, adopted on October 9, 2008 and released on October 17, 2008. The full text of this document is available on the Internet at the Commission's Web site: http://hraunfoss.fcc.gov/edocs_public. It is also available for inspection and copying from 8 a.m. to 4:30 p.m. ET Monday through Thursday or from 8 a.m. to 11:30 a.m. ET on Fridays in the FCC Reference Information Center, Portals II, 445 12th Street, SW., Room CY-A257, Washington, DC 20554. You may purchase the Second Order on Reconsideration from the Commission's duplicating contractor, Best Copy & Printing, Inc. (BCPI), Portals II, 445 12th Street, SW., Room CY-B402, Washington, DC 20554, telephone 202-488-5300, facsimile 202-488-5563, or you may contact BCPI at its Web site: http://www.BCPIWEB.com. When ordering documents from BCPI, please provide the appropriate FCC document number, for example, FCC 08-243.

Summary of the Second Order on Reconsideration

1. The Second Order on Reconsideration denies a Petition for Reconsideration or, in the Alternative, Clarification (Petition) filed by T-Mobile USA, Inc. (T-Mobile). In the Second R&O, the Commission took several steps to facilitate the development of secondary markets in spectrum usage rights involving Wireless Radio Services. Among other things, the Commission established immediate approval procedures for spectrum leasing arrangements and license assignments and transfers of control where the potential lessee or assignee/transferee could certify either (1) that it does not have more than 25 percent indirect foreign ownership, or (2) that it has previously obtained a declaratory ruling from the Commission establishing that the proposed transaction falls within the scope of that declaratory ruling, including with respect to type of service and geographic coverage area, and that there has been no change in foreign ownership in the meantime. The Commission determined that transactions raising specified potential public interest concerns, including certain transactions raising potential foreign ownership concerns associated with section 310(b)(4) of the Communications Act, would not be among those eligible for processing under the immediate approval procedures and would remain subject to the certification and declaratory ruling requirements in the existing streamlined processing procedures. However, the Commission also announced a policy of entertaining section 310(b)(4)-related petitions that could enable carriers with indirect foreign ownership interests to avail themselves of speedier processing of spectrum leasing arrangements and license assignments under certain circumstances.

2. In the Petition, T-Mobile asked the Commission not to strictly construe the new section 310(b)(4) policy and to revise or clarify it to eliminate the need for a new declaratory ruling under certain circumstances, including, among others, when foreign ownership of the ultimate controlling entity would remain unchanged and the licenses that are the subject of the proposed transaction would be utilized in the current business of the applicant and its affiliates.

3. The Commission affirmed the policy adopted in the Second R&O and denied T-Mobile's Petition. The Commission determined that it had struck an appropriate balance in the Second R&O between promoting secondary markets and ensuring adequate review of proposed transactions by the Commission and the Executive Branch. The Commission also found that the revised criteria proposed by T-Mobile were not sufficiently precise to allow the Commission to dispense with the requirement for a new declaratory ruling for purposes of its section 310(b)(4) review.

4. Accordingly, it is ordered that pursuant to sections 1, 4(i), 301, 303(r), and 310 of the Communications Act, as amended, 47 U.S.C. 151, 154(i), 301, 303(r), and 310, the Petition is hereby denied.

Federal Communications Commission.
Marlene H. Dortch,
Secretary.

[FR Doc. E9-1286 Filed 1-23-09; 8:45 am]

BILLING CODE 6712-01-P